DEPARTMENT OF AGRICULTURE

Agricultural Marketing Service

7 CFR Parts 1000, 1001, 1005, 1006, 1007, 1030, 1032, 1033, 1124, 1126, 1131, and 1135

[Docket No. AO-14-A69, et al.: DA-00-03]

Milk in the Northeast and Other Marketing Areas: Order Amending the Orders; Correction

AGENCY: Agricultural Marketing Service, USDA.

ACTION: Final rule; correction.

7 CFR part | Marketing area | AO Nos.
1001 | Northeast | AO-14-A69.
1005 | Appalachian | AO-388-A11.
1006 | Florida | AO-356-A34.
1007 | Southeast | AO-366-A40.
1030 | Upper Midwest | AO-361-A34.
1032 | Central | AO-313-A43.
1033 | Mideast | AO-166-A67.
1124 | Pacific Northwest | AO-368-A27.
1126 | Southwest | AO-231-A65.
1131 | Arizona-Las Vegas | AO-271-A35.
1135 | Western | AO-380-A17.

SUMMARY: The Agricultural Marketing Service is correcting the final rule that appeared in the Federal Register of February 12, 2003, which amended all Federal milk marketing orders based on evidence received at a hearing held May 8-12, 2000, in Alexandria, Virginia. The document was published with an inadvertent error in Part 1030 regarding the computation of the statistical uniform price for milk. This docket corrects the error.

EFFECTIVE DATE: April 1, 2003.

FOR FURTHER INFORMATION CONTACT: Clifford M. Carman, Associate Deputy Administrator, Order Formulation and Enforcement, USDA/AMS/Dairy Programs, Stop 0231-Room 2968, 1400 Independence Avenue, SW., Washington, DC 20250-0231, (202) 720-6274, e-mail: clifford.carman@usda.gov.

SUPPLEMENTARY INFORMATION: In the final rule beginning on page 7063 of the Federal Register for Wednesday, February 12, 2003 (68 FR 7063), in the third column on page 7066, in § 1030.62, paragraph (h) is corrected by removing the word “butterfat” after the word “producer”.

Dated: March 14, 2003.
A.J. Yates,
Administrator, Agricultural Marketing Service.

[FR Doc. 03-6665 Filed 3-19-03; 8:45 am]

BILLING CODE 3410-02-P